DEPARTMENT OF THE INTERIOR

Bureau of Land Management

[ID-070-1020-PG]

Upper Snake River District and Lower Snake River District Resource Advisory Council Vacancies—Call for Nominations

AGENCY: Bureau of Land Management, Interior.

SUMMARY: In accordance with the Federal Land Policy and Management Act and the Federal Advisory Committee Act (FACA), the Bureau of Land Management will accept nominations for two Resource Advisory Council (RAC) positions, one each on the Upper Snake River District (USRD) and the Lower Snake River District (LSRD) RACs. Applications will be accepted from the publication of this notice through January 31, 2001.

One Category Three vacancy is being advertised for the USRD RAC to complete the current 2000-2001 term, along with a Category One vacancy for the LSRD RAC, also to complete the current 2000-2001 term. These terms end in September 2001, and successful nominees who wish to remain on the RAC for a full three year term should apply for renomination in the spring of 2001.

The Category One vacancy is open to holders of Federal grazing permits or leases within the LSRD or who represent interests associated with transportation or rights-of-way, developed outdoor recreation, off-highway vehicle use, commercial recreation, commercial timber industry, or energy and mineral development. The Category Three vacancy is open to holders of state, county, or local elected office; employees of a State agency responsible for management of natural resources; academicians involved in natural sciences; representatives of Native American Tribes, and the public-at-large.

SUPPLEMENTARY INFORMATION: Those interested in receiving an application may call BLM Field Offices in Southern Idaho (Boise, Idaho Falls, Burley, Pocatello, Shoshone, or Twin Falls). Applications are also available by calling Kim Buxton at (208) 373-4015 or via email at kim_buxton@blm.gov. You may also obtain the application on Idaho BLM's web site at www.id.blm.gov. All applications should be submitted to Kim Buxton, BLM Idaho State Office, 1387 South Vinnell Way, Boise, ID 83709, by January 31, 2001.

FOR FURTHER INFORMATION CONTACT: Kim Buxton, Public Affairs Specialist, BLM Idaho State Office. Telephone, (208) 373-4015.

Dated: December 19, 2000.
James E. May,
Upper Snake River District Manager.

[FR Doc. 00-33419 Filed 12-29-00; 8:45 am]

BILLING CODE 4310-66-P